DEPARTMENT OF ENERGY

Federal Energy Regulatory Commission

Notice of Application for Amendment of License and Soliciting Comments, Motions To Intervene, and Protests

March 21, 2001.

Take notice that the following application has been filed with the Commission and is available for public inspection:

a. Application Type: Non-Project Use of Project Lands and Waters.

b. Project No.: 2210-065.

c. Date Filed: February 21, 2001.

d. Applicant: American Electric Power (AEP).

e. Name of Project: Smith Mountain.

f. Location: The project is located on the Roanoke River, in Bedford, Pittsylvania, Franklin, and Roanoke Counties, Virginia.

g. Filed Pursuant to: Federal Power Act, 16 U.S.C. 791(a), 825(r) and 799 and 801.

h. Applicant Contact: Frank M. Simms, Fossil and Hydro Operations, American Electric Power, 1 Riverside Plaza, Columbus, Ohio 43215, (614) 223-2918.

i. FERC Contact: Any questions on this notice should be addressed to Mrs. Heather Campbell at (202) 219-3097.

j. Deadline for filing comments and or motions: April 28, 2001.

All documents (original and eight copies) should be filed with: David P. Boergers, Secretary, Federal Energy Regulatory Commission, 888 First Street, NE., Washington DC 20426. Comments, protests, and interventions may be filed electronically via the Internet in lieu of paper. See, 18 CFR 385.2001(a)(1)(iii) and the instructions on the Commission's web site at http://www.ferc.fed.us/efi/doorbell.htm.

k. Description of Request: Please include the specific project number (P-2210-065) on any comments or motions filed.

American Electric Power proposes to permit Waters Edge, Inc. to construct 124 boat slips within the project boundary to provide access to the project reservoir for residents of the Bridgewater Pointe community located adjacent to, but outside, the project boundary and for partrons of the community's restaurants. In addition, a 1,200-foot-long boardwalk along the water's edge would be built to allow pedestrian access between the marina area and other waterfront amenities. A 250-foot-long floating breakwater would be installed to protect docked boats from wave action.

l. Location of the Application: A copy of the application is available for inspection and reproduction at the Commission's Public Reference Room, located at 888 First Street., NE., Room 2A, Washington, DC 20426, or by calling (202) 208-1371. This filing may be viewed on http://www.ferc.fed.us/online/rims.htm (call (202) 208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 01-7459 Filed 3-26-01; 8:45 am]

BILLING CODE 6717-01-M